DEPARTMENT OF THE INTERIOR

Bureau of Reclamation

Renewal of the Sacramento River Settlement Contracts, Shasta, Tehama, Butte, Glenn, Colusa, Sutter, Yolo, and Sacramento Counties, CA

AGENCY: Bureau of Reclamation, Interior.

ACTION: Notice of availability of the draft environmental impact statement (Draft EIS) and notice of public hearing (DES 04-50).

SUMMARY: Pursuant to the National Environmental Policy Act (NEPA) of 1969 (as amended), the Bureau of Reclamation (Reclamation) as lead Federal Agency, has made available for public review a Draft EIS for the renewal of long-term contracts to deliver water from the Central Valley Project (CVP) to the Sacramento River Settlement Contractors. The Sacramento River Settlement Contractors are entities and individuals that typically receive both non-CVP water, referred to as base supply, and supplemental water from the CVP, referred to as Project Water. The proposed contract renewals would continue the delivery of base supply and Project Water for an additional 40 years. The Draft EIS describes and presents the environmental effects of five alternatives, including no action, for the renewal of up to 145 contracts which include approximately 1.8 million acre-feet of base supply per year and approximately 380,000 acre feet of Project Water per year.

DATES: Submit written comments on the Draft EIS on or before Monday, November 15, 2004, to Mr. Buford Holt at the address provided below. One Public Hearing has been scheduled for Wednesday, October 27, from 3 p.m. to 6 p.m. in Willows, CA.

ADDRESSES: The location for the October 27 Public Hearing is the Eubank Room in the Willows Public Library, 201 N. Lassen St., Willows, CA.

Copies of the Draft EIS may be requested from Ms. Sammie Cervantes, Public Affairs Office, Bureau of Reclamation, 2800 Cottage Way, Sacramento, CA 95825 or by calling 916-978-5104, TDD 916-978-5608. See SUPPLEMENTARY INFORMATION section for locations where copies of the Draft EIS are available for public viewing.

Send written comments on the Draft EIS to Mr. Buford Holt, Bureau of Reclamation, Northern California Area Office, 16349 Shasta Dam Boulevard, Shasta Lake, CA 96019; by fax at (530) 275-2441; or by e-mail to bholt@mp.usbr.gov. Comments should be received on or before November 15, 2004.

FOR FURTHER INFORMATION CONTACT: Mr. Buford Holt, Environmental Specialist, Bureau of Reclamation, Northern California Area Office, at (530) 275-1554, TDD 530-275-8991.

SUPPLEMENTARY INFORMATION: The CVP was first authorized as a Federal project in 1935 and includes facilities on the Sacramento River. Prior to the authorization of the CVP, individuals and entities along the Sacramento River were diverting water for irrigation and municipal and industrial uses under various claims of right. Construction of CVP dams on the Sacramento River and the Trinity River modified the flows of the Sacramento River. In order to settle controversy over assertions of Sacramento River water rights, the United States, acting through the Bureau of Reclamation, negotiated the Settlement Contracts to provide agreement on diversion of Sacramento River water and CVP water. Using jointly conducted studies, the parties negotiated to arrive at mutually agreed amounts of Base Supply and Project Water. “Base Supply” is water the Settlement Contractor's divert free of charge in recognition of their un-quantified water rights, which existed prior to the construction of the CVP. In addition, Reclamation agreed to provide the Settlement Contractors with certain designated monthly quantities of CVP water, referred to as “Project Water”, primarily in the months of July, August, and/or September. Project Water is subject to all of the pricing and other requirements of Federal Reclamation Law. The term of the initial Sacramento River Settlement Contracts was not to exceed 40 years, and the contracts were set to expire on March 31, 2004; however, Congress has granted a two-year extension of the contracts.

The Draft EIS addresses impacts related to the proposed March 2005 renewal of up to 145 Sacramento River Settlement Contracts to continue delivery of supplemental Project Water for agricultural and municipal and industrial (M&I) uses. Water would continue to be delivered through existing CVP facilities, with no new construction required. With the exception of Sutter Mutual Water Company and the Anderson-Cottonwood Irrigation District, the proposed contracts provide for the continued delivery of the same quantities of Project Water provided for under the expiring Settlement Contracts. Under the proposed action, the Sacramento River Settlement Contractors would divert approximately 1.8 million acre-feet of Base Supply per year from the Sacramento River, and approximately 380,000 acre-feet of Project Water per year from the Sacramento River. Twenty of the 145 Settlement Contractors account for approximately 94 percent of the total Settlement Contract amount. The proposed contract-renewal amounts range in size from 10 to 825,000 acre-feet per year. Contracts would be renewed for a 40-year term. The renewal of contracts provides for continued delivery of CVP water to the same lands and for the same purposes of use, with the exception of Natomas Central Mutual Water Company which has requested a change from agricultural use to M&I use in the Metro Air Park portion of its service area. The Draft EIS describes and analyzes the effects of the proposed contract-renewals on fish resources, vegetation and wildlife, hydrology and water quality, recreation, cultural resources, land use, geology and soils, and air quality.

Copies of the Draft EIS are available for public viewing at the following locations:

• Natural Resources Library, U.S. Department of the Interior, 1849 C Street, NW., Main Interior Building, Washington, DC 20240-0001.

• Bureau of Reclamation, Denver Office Library, Building 67, Room 167, Denver Federal Center, 6th and Kipling, Denver, CO 80225-0007, 303-445-2072;

• Bureau of Reclamation, Office of Public Affairs, 2800 Cottage Way, Sacramento, CA 95825-1898 (Sacramento County), 916-978-5100;

• Bureau of Reclamation, Northern California Area Office, 16349 Shasta Dam Boulevard, Shasta Lake CA 96019-8400 (Shasta County), 530-275-1554;

• Bureau of Reclamation, Mid Pacific Construction Office, 1140 West Wood Street, Willows, CA 95988-0988 (Glenn County), 530-934-7066.

• Bureau of Reclamation, Red Bluff Field Office, 22500 Altube Road, Red Bluff, CA 96080 (Tehama County), 530-529-3890.

It is Reclamation's practice to make comments, including names and home addresses of respondents, available for public review. Individual respondents may request that Reclamation withhold their home address from public disclosure, which Reclamation will honor to the extent allowed by law. There also may be circumstances in which Reclamation would withhold a respondent's identity from public disclosure, as allowed by law. If you wish us to withhold your name and/or address, you must state this request prominently at the beginning of your comment. Reclamation will make all submissions from organizations or businesses, and from individuals identifying themselves as representatives or officials of organizations or businesses, available for public disclosure in their entirety.

Special Services: Persons requiring any special services at the October 27, 2004, public meeting should contact Sammie Cervantes at (916) 978-5104. Please notify Ms. Cervantes as far in advance of the particular meeting as possible, but no later than 3 working days prior to the meeting to enable Reclamation to secure the services. If a request cannot be honored, the requester will be notified.

Dated: September 20, 2004.
John F. Davis,
Deputy Regional Director, Mid-Pacific Region.

[FR Doc. 04-22048 Filed 9-30-04; 8:45 am]

BILLING CODE 4310-MN-P